NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on July 7-9, 2004, 11545 Rockville Pike, Rockville, Maryland. The date of this meeting was previously published in the Federal Register on Monday, November 21, 2003 (68 FR 65743).

Wednesday, July 7, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: Final Safety Evaluation Report (SER) Associated With the AP1000 Design Certification (Open)—The Committee will hear presentations by and hold discussions with representatives of the NRC staff and Westinghouse Electric Company regarding the final SER associated with the certification of the AP1000 design, resolution of any unresolved issues previously raised by the ACRS, and related matters.

10:45 a.m.-12: 15 p.m.: Draft Final Generic Letter on Potential Impact of Debris Blockage on Emergency Recirculation During Design-Basis Accidents at Pressurized Water Reactors (PWRs) (Open)—The Committee will hear presentations by and hold discussions with representatives of the NRC staff regarding the draft final Generic Letter on PWR sump blockage and the staff's resolution of public comments on the proposed version of this Generic Letter.

1:15 p.m.-3:45 p.m.: Risk-Informing 10 CFR 50.46, “Acceptance Criteria for Emergency Core Cooling Systems for Light-Water Nuclear Power Reactors” (Open)—The Committee will hear presentations by and hold discussions with representatives of the NRC staff regarding the proposed rule language for risk-informing 10 CFR 50.46 and the sensitivity studies on large-break loss-of-coolant accident frequency reevaluation performed in support of risk-informing 10 CFR 50.46.

4 p.m.-5 p.m.: Differences in Regulatory Approaches and Requirements Between U.S. and Other Countries (Open)—The Committee will hear a presentation by and hold discussions with Dr. Nourbakhsh, ACRS Senior Staff Engineer, regarding his draft White Paper on differences in regulatory approaches and requirements between U.S. and other countries.

5:15 p.m.-6:45 p.m.: Preparation of ACRS Reports (Open)—The Committee will discuss proposed ACRS reports on matters considered during this meeting.

Thursday, July 8, 2004, Conference Room T-2B3, Two White Flint North, Rockville, Maryland

8:30 a.m.-8:35 a.m.: Opening Remarks by the ACRS Chairman (Open)—The ACRS Chairman will make opening remarks regarding the conduct of the meeting.

8:35 a.m.-10:30 a.m.: Proposed Generic Communication on the Use of Ultrasonic Flow Measurement Devices for Measuring Feedwater Flow Rates in Nuclear Plants (Open)—The Committee will hear presentations by and hold discussions with representatives of the NRC staff regarding the proposed Generic Communication on the Use of Ultrasonic Flow Measurement Devices for Measuring Feedwater Flow Rates in Nuclear Plants.

10:45 a.m.-11:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:45 a.m.-12 noon: Reconciliation of ACRS Comments and Recommendations (Open)—The Committee will discuss the responses from the NRC Executive Director for Operations (EDO) to comments and recommendations included in recent ACRS reports and letters. The EDO responses are expected to be made available to the Committee prior to the meeting.

1 p.m.-2 p.m.: Status of the ACRS Members' Assessment of the Quality of Selected NRC Research Projects (Open)—The Committee will discuss the status of the activities of the cognizant ACRS members associated with the assessment of the quality of the research projects on Sump Blockage and on MACCS Code.

2:15 p.m.-6:30 p.m.: Preparation of ACRS Reports (Open)—The Committee will discuss proposed ACRS reports.

Friday, July 9, 2004, Conference Room T-2B3, Two White Flint North, Rockville, Maryland

8:30 a.m.-3 p.m.: Preparation of ACRS Reports (Open)_The Committee will continue its discussion of proposed ACRS reports.

3 p.m.-3:30 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., et.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., et, at least 10 days before the meeting to ensure the availability of this service. Individuals or organizations requesting this service will be responsible for telephone line charges and for providing the equipment and facilities that they use to establish the videoteleconferencing link. The availability of videoteleconferencing services is not guaranteed.

Dated: June 16, 2004.
Kenneth R. Hart,
Acting Secretary of the Commission.

[FR Doc. 04-14035 Filed 6-21-04; 8:45 am]

BILLING CODE 7590-01-P